DEPARTMENT OF ENERGY

Federal Energy Regulatory Commission

[Docket No. RP03-243-003]

Nicole Gas Production Ltd.; Notice of Compliance Filing

September 3, 2003.

Take notice that on August 26, 2003, Columbia Gas Transmission Corporation (Columbia Gas) tendered for filing as part of its FERC Gas Tariff, Second Revised Volume No. 1, Substitute Second Revised Sheet No. 410, with a proposed effective date of August 15, 2003.

Columbia Gas states that on July 14, 2003, it filed revised tariff sheets to clarify obligations with respect to the construction and installation of meters and measuring stations and to clarify obligations with respect to the responsibility for payment of the cost of the construction and installation of those facilities. On August 11, 2003, the Commission accepted Columbia Gas' proposed revised tariff sheets subject to conditions (August 11 Order), Nicole Gas Production Ltd., 104 FERC ¶ 61,193 (2003). The Commission required that Columbia Gas make revisions to a tariff sheet within 15 days of the date of issuance of the August 11 Order. As directed by the Commission in the August 11 Order, Columbia Gas submitted the revised tariff sheet identified above. Columbia states that the revised tariff sheet reflects the changes required by the Commission in the August 11 Order.

Columbia Gas states that copies of its filing have been mailed to all firm customers, interruptible customers, and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protest will be considered by the Commission in determining the appropriate action to be taken, but will not serve to make protestants parties to the proceedings. This filing is available for review at the Commission in the Public Reference Room or may be viewed on the Commission's Web site at http://www.ferc.gov using the eLibrary link. Enter the docket number excluding the last three digits in the docket number filed to access the document. For assistance, please contact FERC Online Support at FERCOnlineSupport@ferc.gov or toll-free at (866) 208-3676, or TTY, contact (202) 502-8659. The Commission strongly encourages electronic filings. See 18 CFR 385.2001(a)(1)(iii) and the instructions on the Commission Web site under the eLibrary (e-Filing) link.

Protest Date: September 8, 2003.

Linda Mitry,
Acting Secretary.

[FR Doc. 03-22866 Filed 9-8-03; 8:45 am]

BILLING CODE 6717-01-P